DEPARTMENT OF ENERGY

Federal Energy Regulatory Commission

[Project No. 2727-092]

Black Bear Hydro Partners LLC; Notice of Application Tendered for Filing With the Commission and Establishing Procedural Schedule for Licensing and Deadline for Submission of Final Amendments

Take notice that the following hydroelectric application has been filed with the Commission and is available for public inspection.

a. Type of Application: New Major License.

b. Project No.: 2727-092.

c. Date Filed: December 30, 2015.

d. Applicant: Black Bear Hydro Partners LLC (Black Bear Hydro).

e. Name of Project: Ellsworth Hydroelectric Project (Ellsworth Project).

f. Location: The existing project is located on the Union River in Hancock County, Maine. The project does not occupy federal lands.

g. Filed Pursuant to: Federal Power Act, 16 U.S.C. 791(a)-825(r).

h. Applicant Contact: Ms. Kelly Maloney, Manager of Licensing and Compliance, Brookfield White Pine Hydro LLC, 150 Main Street, Lewiston, ME 04240; Telephone: (207) 755-5606.

i. FERC Contact: Dr. Nicholas Palso, (202) 502-8854 or nicholas.palso@ferc.gov.

j.This application is not ready for environmental analysis at this time.

k. The Project Description: The existing Ellsworth Project consists of two developments (Graham Lake and Ellsworth) with a total installed capacity of 8.9 megawatts (MW). The project's average annual generation is 30,511 megawatt-hours. The power generated by the project is sold on the open market through the regional grid.

Graham Lake Development

The existing Graham Lake Development consists of: (1) A 750-foot-long, 58-foot-high dam that includes: (i) An 80-foot-long, 58-foot-high concrete spillway section with three 20-foot-wide, 22.5-foot-high spillway gates and one 8-foot-wide sluice gate; and (ii) a 670-foot-long, 45-foot-high west earthen embankment section with a concrete and sheet pile core wall; (2) a 10,000-acre impoundment (Graham Lake) with a useable storage volume of 123.97 million acre-feet at a normal maximum elevation of 104.2 National Geodetic Vertical Datum (NGVD); (3) a 720-foot-long, 58-foot-high concrete gravity flood control structure with a 65-foot-diameter, 55-foot-high stone-filled sheet pile retaining structure; (4) a 71-foot-long, 36.5-foot-high concrete wing wall; and (5) appurtenant facilities.

Ellsworth Development

The existing Ellsworth Development consists of: (1) A 377-foot-long, 62.75-foot-high dam that includes: (i) A 102-foot-long, 62.75-foot-high west concrete bulkhead section; and (ii) a 275-foot-long, 57-foot-high concrete overflow spillway with 1.7-foot-high flashboards; (2) an 85-foot-long, 71-foot-high concrete non-over flow wall at the west end of the bulkhead section; (3) a 26-foot-high abutment at the east end of the spillway; (4) a 90-acre impoundment (Lake Leonard) with a gross storage volume of 2.46 million acre-feet at a normal maximum elevation of 66.7 feet NGVD; (5) generating facility No. 1 that includes: (i) A headgate and a trashrack with 2.44-inch clear-bar spacing; (ii) a 10-foot-diameter, 74-foot-long penstock; and (iii) a 30-foot-long, 15-foot-wide concrete and masonry gatehouse that is integral with the dam and contains a single 2.5 MW turbine-generator unit; (6) generating facility No. 2 that includes: (i) An 88.4-foot-wide, 32-foot-high intake structure with three headgates and three trashracks with 1.0- to 2.37-inch clear-bar spacing; (ii) an 8-foot-diameter, 164-foot-long penstock, an 8-foot-diameter, 195-foot-long penstock, and a 12-foot-diameter, 225-foot-long penstock; and (iii) a 52.5-foot-long, 68-foot-wide concrete and masonry powerhouse that contains two 2.0-MW and one 2.4-MW turbine-generator units; (7) downstream fish passage facilities that include three 3-foot-wide surface weirs; (8) upstream fish passage facilities that include a 3-foot-wide vertical slot fishway and collection station; (9) a 320-foot-long transmission line connecting the turbine-generator units to the regional grid; and (10) appurtenant facilities.

The Graham Lake Development operates as a water storage facility where water is stored to reduce downstream flooding during periods of high flow and released during periods of low flow to augment generation at the Ellsworth Development. The Ellsworth Development operates as a peaking facility where Lake Leonard is fluctuated up to one foot on a daily basis to regulate downstream flows and meet peak demands for hydroelectric generation.

The existing license requires an instantaneous minimum flow of 250 cubic feet per second (cfs), or inflow (whichever is less), downstream of each development from May 1 to June 30 each year. The minimum flow for each development is reduced to 105 cfs from July 1 to April 30 each year. In addition to the minimum flows, the existing license requires Black Bear Hydro to maintain Graham Lake and Lake Leonard between elevations 93.4 and 104.2 feet NGVD and 65.7 and 66.7 feet NGVD, respectively. Black Bear Hydro proposes to install upstream eel passage facilities at the Graham Lake and Ellsworth developments, construct a canoe portage at the Graham Lake Development, and improve angler access at the Graham Lake Development.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date ¹
Notice of Acceptance/Notice of Ready for Environmental Analysis (REA) | February 2017.
Filing of recommendations, preliminary terms and conditions, and fishway prescriptions | April 2017.
Commission issues Non-Draft Environmental Assessment (EA) | October 2017.
Comments on EA | November 2017.
Modified terms and conditions | January 2018.
¹ This schedule has been adjusted to account for ongoing studies that must be filed with the Commission no later than December 31, 2016.

o. Final amendments to the application must be filed with the Commission no later than 30 days from the issuance date of the notice of ready for environmental analysis.

Dated: January 11, 2016.
Nathaniel J. Davis, Sr.,
Deputy Secretary.

[FR Doc. 2016-00709 Filed 1-14-16; 8:45 am]

BILLING CODE 6717-01-P